DEPARTMENT OF DEFENSE

Defense Acquisition Regulations System

48 CFR Parts 225 and 252

RIN 0750-AH18

Defense Federal Acquisition Regulation Supplement; Repeal of Restriction on Ballistic Missile Defense Research, Development, Test, and Evaluation (DFARS Case 2011-D026)

AGENCY: Defense Acquisition Regulations System, Department of Defense (DoD).

ACTION: Final rule.

SUMMARY: DoD is issuing a final rule to implement section 222 of the National Defense Authorization Act for Fiscal Year 2011 (Pub. L. 111-383). Section 222 repeals the restriction on purchase of Ballistic Missile Defense research, development, test, and evaluation from foreign sources.

DATES: Effective date: March 17, 2011.

FOR FURTHER INFORMATION CONTACT: Ms. Amy Williams, Defense Acquisition Regulations System, OUSD (AT&L) DPAP/DARS Room 3B855, 3060 Defense Pentagon, Washington, DC 20301-3060. Telephone 703-602-0328; facsimile 703-602-0350.

SUPPLEMENTARY INFORMATION:

I. Background

This final rule amends DFARS subpart 225.70 by deleting section 225.7016 and the associated clause at DFARS 252.225-7018, because section 222 of the National Defense Authorization Act for Fiscal Year 2011 (Pub. L. 111-383) repealed the restriction from foreign sources of acquisition of Ballistic Missile Defense research, development, test, and evaluation that was required by section 222 of the DoD Authorization Act for Fiscal Years 1988 and 1989.

II. Executive Order 12866

This rule was not subject to Office of Management and Budget review under Executive Order 12866, dated September 30, 1993. This rule is not considered a major rule under 5 U.S.C. 804.

III. Executive Order 13563

In accordance with Executive Order 13563, Improving Regulation and Regulatory Review, dated January 18, 2011, DoD has determined that this rule is not excessively burdensome to the public, and is consistent with section 222 of the National Defense Authorization Act for Fiscal Year 2011.

IV. Regulatory Flexibility Act

The Regulatory Flexibility Act does not apply to this rule because a final regulatory flexibility analysis is only required for final rules that were previously published for public comment, and for which an initial regulatory flexibility analysis was prepared (5 U.S.C. 604).

This final rule does not constitute a significant FAR revision as defined at FAR 1.501-1 because this rule will not have a significant cost or administrative impact on contractors or offerors, or a significant effect beyond the internal operating procedures of the Government. Therefore, publication for public comment under 41 U.S.C. 1707 is not required.

V. Paperwork Reduction Act

This rule modifies an existing information collection by removing the requirement for an offeror to represent whether it is or is not a United States firm by completing the clause at DFARS 252.225-7018. Deletion of this requirement reduces the total approved hours for the collection under OMB Control Number 0704-0229, “Defense Federal Acquisition Regulation Supplement Part 225, Foreign Acquisition, and Related Clauses” from 57,140 to 57,135. A change request has been submitted to OMB.

List of Subjects in 48 CFR Parts 225 and 252

Government procurement.

Ynette R. Shelkin,
Editor, Defense Acquisition Regulations System.

Therefore, 48 CFR parts 225 and 252 are amended as follows:

1. The authority citation for 48 CFR parts 225 and 252 continues to read as follows:

Authority: 41 U.S.C. 1303 and 48 CFR chapter 1.

PART 225—FOREIGN ACQUISITION

225.7016 through 225.7016-4 [Removed]

2. Sections 225.7016 through 225.7016-4 are removed.

PART 252—SOLICITATION PROVISIONS AND CONTRACT CLAUSES

252.225-7018 [Removed and reserved]

3. Section 252.225-7018 is removed and reserved.

[FR Doc. 2011-6234 Filed 3-16-11; 8:45 am]

BILLING CODE 5001-08-P